DEPARTMENT OF HEALTH AND HUMAN SERVICES

White House Initiative on Asian Americans and Pacific Islanders President's Advisory Commission; Notice of Meeting

In accordance with section 10(a)(2) of the Federal Advisory Committee Act (Pub. L. 92-463), announcement is made of the following National Advisory body scheduled to conduct a public meeting during the month of October 2002.

Name: President's Advisory Commission on Asian Americans and Pacific Islanders (Commission).

Date and Time: Friday, November 22, 2002; 10 a.m.-5 p.m. EST.

Location: Key Bridge Marriott, 1401 Lee Highway, Arlington, VA 22209.

The meeting is open to the public.

The President's Advisory Commission on AAPIs will conduct a public meeting on November 22, 2002, from 10 a.m. to 5 p.m. EST inclusive.

Agenda items will include, but may not be limited to: Presentations of preliminary reports by subcommittees of the President's Advisory Commission in the subject areas of health, economic and community development, education and immigration; Commission deliberations of subcommittee reports; administrative tasks; deadlines; upcoming events; and comments from the public.

The purpose of the Commission is to advise and make recommendations to the President on ways to increase opportunities for and improve the quality of life of approximately thirteen million Asian Americans and Pacific Islanders living in the United States and the U.S. associated Pacific Island jurisdictions, especially those who are most underserved.

Requests to address the Commission must be made in writing and should include the name, address, telephone number and business or professional affiliation of the interested party. Individuals or groups addressing similar issues are encouraged to combine comments and make their request to address the Commission through a single representative. The allocation of time for remarks will be adjusted to accommodate the level of expressed interest. Written requests must be faxed to (301) 443-0259.

Anyone who has interest in joining any portion of the meeting or who requires additional information about the Commission should contact: Ms. Betty Lam or Mr. Erik F. Wang, Office of the White House Initiative on AAPIs, Parklawn Building, Room 10-42, 5600 Fishers Lane, Rockville, MD, 20857, Telephone (301) 443-2492. Anyone who requires special assistance, such as sign language interpretation or other reasonable accommodations, should contact Mr. Wang no later than November 18, 2002.

Dated: November 8, 2002.
Willis Morris,
Senior Advisor to the Deputy Secretary.

[FR Doc. 02-28880 Filed 11-8-02; 11:16 am]

BILLING CODE 4165-15-M